DEPARTMENT OF LABOR

Wage and Hour Division

29 CFR Part 825

The Family and Medical Leave Act of 1993

CFR Correction

In Title 29 of the Code of Federal Regulations, Parts 500 to 899, revised as of July 1, 2017, on page 821, in § 825.120, paragraph (a)(4) is amended as follows:

—Remove the third sentence of the paragraph;

—Add a sentence following the first sentence of the paragraph; and

—Add a sentence following the last sentence of the paragraph.

The additions read as follows:

§ 825.120 Leave for pregnancy or birth.

(a) * * *

(4) * * * Circumstances may require that FMLA leave begin before the actual date of birth of a child. * * * For example, a pregnant employee may be unable to report to work because of severe morning sickness.

* * * * *

[FR Doc. 2018-13908 Filed 6-26-18; 8:45 am]

BILLING CODE 1301-00-D